DEPARTMENT OF TRANSPORTATION

Federal Aviation Administration

User Input to the Aviation Weather Technology Transfer (AWTT) Board

AGENCY: Federal Aviation Administration (FAA), Department of Transportation (DOT).

ACTION: Notice of public meeting.

SUMMARY: The FAA will hold an informal public meeting to seek aviation weather user input. Details: January 21, 2004; Air Line Pilots Association, 535 Herndon Parkway, Herndon, Virginia 22170; 9 a.m. to 5 p.m. in Conference Room XX. The objective of this meeting is to provide an opportunity for interested aviation weather users to provide input on FAA's plans for implementing new weather products.

DATES: The meeting will be held at the Air Line Pilots Association (ALPA), 535 Herndon Parkway, Herndon, Virginia 22170. Times: 9 a.m. to 5 p.m. on January 21, 2004.

FOR FURTHER INFORMATION CONTACT: Debi Bacon, Aerospace Weather Policy Division, ARS-100, Federal Aviation Administration, 800 Independence Ave., SW., Washington, DC 20591; telephone number (202) 385-7705; Fax; (202) 385-7701; e-mail: debi.bacon@faa.gov.

SUPPLEMENTARY INFORMATION:

History

In 1999, the FAA established an Aviation Weather Technology Transfer (AWTT) Board to manage the orderly transfer of weather capabilities and products from research and development (R&D) into operations. The Director of the Aerospace Weather Policy and Standards Staff, ARS-20, chairs the AWTT Board. The board is composed of stakeholders in Air Traffic Services, ATS; Regulation and Certification, AVR; and Research and Acquisitions, ARA in the Federal Aviation Administration and the Office of Climate, Water and Weather Services, OS and the Office of Science and Technology, OST in the National Weather Service.

The AWTT Board meets semi-annually or as needed, to determine the readiness of weather R&D products for experimental use, full operational use for meteorologists or full operational use for end users. The board's determination is based upon criteria in the following areas: user's needs; benefits; costs; risks; technical readiness; operational readiness and budget requirements.

FAA has the sole responsibility and authority to make decisions intended to provide a safe, secure, and efficient U.S. national airspace system. However, it behooves FAA to not make decisions in a vacuum. Rather, FAA is seeking inputs from the user community before decisions are finalized. The purpose of this meeting is to obtain industry feedback.

Industry users will be invited to participate in quarterly, one-day meetings to provide input for development of concepts of use (ConUse) for individual aviation weather products near specific AWTT board decision points. The decision points are for transition from the test stage (D2) to the experimental stage (D3) and/or from the experimental stage (D3) to the operational stage (D4). Industry meetings will precede the two AWTT board meetings approximately one month prior to each board meeting and in each of the other two quarters of the year. These industry review sessions will be announced in the Federal Register and open to all interested parties.

This meeting is the industry session intended to provide input for a roadmap for aviation weather. It is also intended to receive feedback on weather R&D products that will be presented for consideration at the May and November 2004 AWTT Board meetings. The products to be considered include the Current Icing Potential (CIP) Severity product for D3; the National Convective Weather Forecast (NCWF) 2 hour product (D3); the Forecast Icing Potential (FIP)—Alaska product (D3); the FIP supercooled Large Droplets (SLD) product (D4); the FIP Severity product (D3); the Graphical Turbulence Guidance (GTG) Flight Level 100-200 (D3) and the Oceanic Cloud Top Height product (CTOP) (D3).

Meeting Procedures

(a) The meeting will be informal in nature and will be conducted by representatives of the FAA Headquarters.

(b) The meeting will be open to all persons on a space-available basis. Every effort was made to provide a meeting site with sufficient seating capacity for the expected participation. There will be neither admission fee nor other charge to attend and participate. Attendees must present themselves to the security guard at the Air Line Pilots Association (ALPA), 525 Herndon Parkway, Herndon, VA, obtain a visitor pass and adhere to security instructions for ALPA.

(c) FAA personnel present will conduct an overview briefing on the user input process to the AWTT and changes made to the process. Any person will be allowed to ask questions during the presentation and FAA personnel will clarify any part of the process that is not clear.

(d) FAA aviation weather research program personnel will conduct an overview briefing on the short- and mid-term outlook for scientific research for aviation weather products. Any person will be allowed to ask questions during the presentation and FAA personnel will clarify any part of the process that is not clear.

(e) FAA personnel will lead a session intended to refine an aviation weather roadmap, and a second session intended to refine ConUses for specific weather products due for AWTT board decisions during 2004. Any person present may give feedback on the aviation weather roadmap or the specific products due for board decisions. Feedback on the proposed products will be captured through discussion between FAA personnel and any persons attending the meeting.

(f) FAA will not take any action items from this meeting nor make any commitments to accept specific user suggestions. The meeting will not be formally recorded. However, informal tape recordings may be made of the presentations to ensure that each respondent's comments are noted accurately.

(g) An official verbatim transcript or minutes of the informal meeting will not be made. However, a list of the attendees and a digest of discussions during the meeting will be produced. Any person attending may receive a copy of the written information upon request to the information contact, above.

(h) Every reasonable effort will be made to hear each person's feedback consistent with a reasonable closing time for the meeting. Written feedback may also be submitted to FAA personnel for up to seven (7) days after the close of the meeting.

Agenda

(a) Opening Remarks and Discussion of Meeting Procedures

(b) Review of AWTT user input process, proposed changes, calendar of events

(c) Research Update

(d) Roadmap Work Session

(e) ConUse Work Session

(f) Closing Comments

* * * * *

Issued in Washington, DC on January 7, 2004.
Richard J. Heuwinkel,
Acting Staff Director, Office of Aerospace Weather Policy and Standards.

[FR Doc. 04-491 Filed 1-09-04; 8:45 am]

BILLING CODE 4910-13-M